DEPARTMENT OF TRANSPORTATION

Federal Railroad Administration

Notice of Product Development

Although not required, notice is hereby given that the Federal Railroad Administration (FRA) has received a Notice of Product Development (NPD) from the Union Pacific Railroad Company (UP), pursuant to Title 49 Code of Federal Regulations (CFR) Section 236.913(d)(1) for Phases 1 and 2 of the development of a Communications Based Train Control (CBTC) system. A brief summary of the NPD, including the party submitting it, and the requisite docket number are as follows.

Union Pacific Railroad Company

[Waiver Docket Number FRA-2007-27322]

UP submitted an NPD of its CBTC system for Phases 1 and 2. The proposed CBTC system is a safety-critical, microprocessor-based system, designed to provide the enforcement of movement authorities and speed restrictions for CBTC-equipped locomotives, and provide the locomotive engineer an assist function to optimize train handling. Phase 1 of the CBTC is a non-vital safety overlay based on BNSF's Electronic Train Management System, previously approved under Docket Number FRA-2006-23687. Phase 2 of the CBTC implements the functionality of Phase 1 using a vital onboard architecture.

Interested parties are invited to review the notification and associated documents at the following locations:

• Web site: http://dms.dot.gov. Follow the instructions for a simple search on the DOT electronic docket site; and/or

• DOT Central Docket Management Facility, Room PL-401 on the plaza level of the Nassif Building, 400 Seventh Street, SW., Washington, DC, between 9 a.m. and 5 p.m., Monday through Friday, except Federal holidays.

All documents in the public docket are also available for inspection and copying on the Internet at the docket facility's Web site, http://dms.dot.gov.

Anyone is able to search the electronic form of all comments received into any of our dockets by the name of the individual submitting the comment (or signing the comment on behalf of an association, business, labor union, etc.). You may review the DOT's complete Privacy Act Statement in the Federal Register published on April 11, 2000 (Volume 65, Number 70; Pages 19477-78). The Statement may also be found at http://dms.dot.gov.

Issued in Washington, DC, on March 7, 2007.
Grady C. Cothen, Jr.,
Deputy Associate Administrator for Safety Standards and Program Development.

[FR Doc. E7-4581 Filed 3-13-07; 8:45 am]

BILLING CODE 4910-06-P